DEPARTMENT OF DEFENSE

Department of the Navy

Notice of Intent To Prepare an Environmental Impact Statement for a Submarine Dry Dock and Waterfront Production Facility at the Pearl Harbor Naval Shipyard and Intermediate Maintenance Facility, Oahu, Hawaii, and To Announce the Public Scoping Meeting; Corrections

AGENCY: Department of the Navy, Defense (DoD).

ACTION: Notice; corrections.

SUMMARY: The Department of the Navy published a document in the Federal Register of September 15, 2020, concerning its intent to prepare an Environmental Impact Statement (EIS) to evaluate the potential environmental effects associated with construction and operation of a submarine dry dock (DD) replacement and waterfront production facility (WPF) at the Pearl Harbor Naval Shipyard and Intermediate Maintenance Facility (PHNSY & IMF) at Joint Base Pearl Harbor‐Hickam (JBPHH), Oahu, Hawaii and announce the public scoping period. The document contained incorrect dates and omitted details concerning the request for public comment.

FOR FURTHER INFORMATION CONTACT: Andréa M. Von Burg Hall, Navy PHNSY DD/WPF EIS Project Manager, by telephone (808-472-1425) or email (andrea.vonburg-hall@navy.mil).

SUPPLEMENTARY INFORMATION:

Correction

In the Federal Register of September 15, 2020, in FR Doc. 2020-19961, on page 57194, the following corrections are made:

1. On page 57195, in the first column, correct the Dates caption to read:

DATES: The Navy is initiating a 35-day public scoping process beginning on September 15, 2020 and extending through October 19, 2020. The purpose of the public scoping process is to identify community interests and to receive comments on the scope of the EIS and the project's potential to affect historic properties pursuant to Section 106 of the National Historic Preservation Act of 1966, including identification of potential alternatives, information, and analyses relevant to the proposed action. This public scoping process starts with the publication of this Notice of Intent. The Navy is providing two web-based platforms for the public to learn about the Proposed Action and provide scoping comments. All comments are due by October 19, 2020. The Navy intends to publish the Draft EIS in July of 2021, the Final EIS in April 2022 with a Record of Decision signed in September 2022.

2. On page 57195, in the first column, correct the second sentence in paragraph 1. of the Addresses caption to read: The virtual Open House will be available at www.PearlHarborDryDockEISOpenHouse.org from 12:00 a.m. Hawaii Standard Time (HST) on September 15, 2020, to 11:59 p.m. (HST) on October 19, 2020.

3. On page 57195, in the second column, correct Supplemental Information to read: SUPPLEMENTARY INFORMATION: Depot maintenance for PHNSY & IMF requires four DDs capable of docking current and future classes of submarines. In addition, to accommodate future submarine maintenance demands at PHNSY & IMF and improve operational readiness, the time spent servicing each submarine at the DD must be reduced. Infrastructure improvements and rearrangement of functions at PHNSY are, therefore, needed to ensure adequate capacity and operational efficiency.

The purpose of the Proposed Action is to provide appropriate DD capacity at PHNSY & IMF to meet depot maintenance requirements and to provide a properly sized and configured WPF to enable efficient submarine maintenance.

The Navy proposes DD replacement at PHNSY & IMF capable of performing depot‐level maintenance on current and future fast-attack submarines. To meet the purpose and need, the Navy's Proposed Action is to construct and operate a graving DD replacement and WPF at PHNSY & IMF, including permanent ancillary facilities such as new power and utilities. A graving or excavated DD is one that is constructed on land near the shore, using concrete. Other construction‐related actions would include dredging, upgrade or replacement of new in-water structures, demolition of existing upland structures, and construction of new upland facilities.

The Navy has identified four preliminary action alternatives to carry forward for analysis in the EIS along with the No Action alternative. These alternatives will be further refined based on input received from the public and resource agencies during scoping.

Alternative 1 (No Action Alternative) would be no change from the status quo. A submarine DD replacement and WPF would not be built, and PHNSY & IMF would continue to service submarines using its existing infrastructure. Following the phasing out of the Los Angeles Class submarine in 2022, DD 3 would no longer be capable of servicing any active submarines due to size limitations.

Alternative 2 would consist of a covered graving DD replacement and bridge crane. A new WPF would be located east of the DD, servicing both the replacement DD and DD #2.

Alternative 3 would consist of a covered graving DD replacement and bridge crane. A new WPF would be located west of the DD and would service only the replacement DD.

Alternative 4 would consist of an uncovered graving DD replacement, operated using a portal or gantry crane. A new WPF would be located east of the DD, servicing both the DD replacement and DD #2.

Alternative 5 would consist of an uncovered graving DD replacement, operated using a portal or gantry crane. A new WPF would be located west of the DD and would service only the DD replacement.

Environmental issues and resource areas to be examined in the EIS include, but are not limited to the following: Cultural Resources, Visual Resources, Public Health and Safety, Land Use, Socioeconomics, Environmental Justice, Soils, Water Quality, Topography and Geology, Air Quality, Terrestrial Biology, Marine Biology, Traffic, Marine Navigation, Noise, Utilities, and Hazardous Materials. Based on a preliminary evaluation of these resources, the Navy expects impacts on marine and cultural resources due to construction of the DD replacement and WPF. Additionally, temporary traffic impacts could result from construction activity. The EIS will also analyze measures that would avoid, minimize, or mitigate environmental effects.

Additionally, the Navy will conduct all coordination, consultation, and permitting activities required by the National Historic Preservation Act, the Endangered Species Act, the Magnuson‐Stevens Fishery Conservation and Management Act, the Clean Water Act, the Coastal Zone Management Act, and other laws and regulations determined to be applicable to the project.

The Navy encourages federal, state, and local agencies, and interested persons to provide comments concerning the alternatives proposed for study and environmental issues for analysis in the EIS, as well as to identify specific environmental resources that the Navy should consider when developing the Draft EIS. The Navy will prepare the Draft EIS, including analysis of potential effects to those resources, which the Navy and the commenting public has identified. All comments received during the public scoping period will receive consideration during EIS preparation.

Written comments on the scope of the EIS or the project's potential to affect historic properties pursuant to Section 106 of the National Historic Preservation Act of 1966 can be mailed or submitted electronically via the virtual Open House. To receive consideration, comments submitted by mail must be postmarked no later than October 19, 2020. Comments may be mailed to the following address: Naval Facilities Engineering Command Pacific, Attn: PHNSY DD/WPF EIS Project Manager, 258 Makalapa Drive, Suite 100, Joint Base Pearl Harbor-Hickam, HI 96860-3134.

Comments may also be submitted electronically through the EIS website at www.PearlHarborDryDockEIS.org or the virtual Open House website, online at www.PearlHarborDryDockEISOpenHouse.org. Comments must be posted by 11:59 p.m. HST on October 19, 2020.

Dated: September 15, 2020.
D.J. Antenucci,
Commander, Judge Advocate General's Corps, U.S. Navy, Federal Register Liaison Officer.

[FR Doc. 2020-20645 Filed 9-17-20; 8:45 am]

BILLING CODE 3810-FF-P